DEPARTMENT OF TRANSPORTATION

Federal Aviation Administration

14 CFR Part 39

[Docket No. FAA-2005-23476; Directorate Identifier 2005-NM-204-AD]

RIN 2120-AA64

Airworthiness Directives; Fokker Model F.28 Mark 0070 and 0100 Airplanes

AGENCY: Federal Aviation Administration (FAA), Department of Transportation (DOT).

ACTION: Notice of proposed rulemaking (NPRM).

SUMMARY: The FAA proposes to adopt a new airworthiness directive (AD) for certain Fokker Model F.28 Mark 0070 and 0100 airplanes. This proposed AD would require an inspection of the main landing gear (MLG) main fitting for cracks, and repair if necessary. This proposed AD would also require installing a placard and revising the airplane flight manual to include procedures to prohibit the application of brakes during backward movement of the airplane. This proposed AD results from a report that an MLG main fitting failed on an airplane that was braking while moving backward. We are proposing this AD to detect and correct cracks in the MLG main fitting, which could result in reduced structural integrity of the MLG main fitting.

DATES: We must receive comments on this proposed AD by February 3, 2006.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility, U.S. Department of Transportation, 400 Seventh Street SW., Nassif Building, room PL-401, Washington, DC 20590.

• Fax: (202) 493-2251.

• Hand Delivery: Room PL-401 on the plaza level of the Nassif Building, 400 Seventh Street SW., Washington, DC, between 9 a.m. and 5 p.m., Monday through Friday, except Federal holidays.

Contact Fokker Services B.V., P.O. Box 231, 2150 AE Nieuw-Vennep, the Netherlands, for service information identified in this proposed AD.

FOR FURTHER INFORMATION CONTACT: Tom Rodriguez, Aerospace Engineer, International Branch, ANM-116, FAA, Transport Airplane Directorate, 1601 Lind Avenue, SW., Renton, Washington 98055-4056; telephone (425) 227-1137; fax (425) 227-1149.

SUPPLEMENTARY INFORMATION:

Comments Invited

We invite you to submit any relevant written data, views, or arguments regarding this proposed AD. Send your comments to an address listed in the ADDRESSES section. Include the docket number “FAA-2005-23476; Directorate Identifier 2005-NM-204-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of that Web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Discussion

Civil Aviation Authority—The Netherlands (CAA-NL), which is the airworthiness authority for the Netherlands, notified us that an unsafe condition may exist on certain Fokker Model F.28 Mark 0070 and 0100 airplanes. The CAA-NL advises that a main landing gear (MLG) main fitting failed on a Fokker Model F.28 Mark 0100 airplane that was braking while moving backward. The MLG main fitting broke into two pieces, causing the lower part including the sliding member and the main wheels to separate from the upper main fitting part. An investigation revealed a 4.5 mm fatigue crack in the main fitting, which originated from one of the MLG filler and bleeder ports. Smaller cracks, typically 0.5 mm—1.0 mm, have also been found on other Fokker Model F.28 Mark 0100 airplanes in the area of the MLG filler and bleeder ports. This condition, if not corrected, could result in reduced structural integrity of the MLG main fitting.

Relevant Service Information

Messier-Dowty has issued Service Bulletin F100-32-106, dated February 18, 2005, including Appendices A through D. The service bulletin describes procedures for an eddy current inspection of the MLG main fitting for cracks, and repair if necessary. If all damage has not been removed during repair, the service bulletin specifies contacting the manufacturer. The service bulletin also specifies that flight with a crack is allowed under certain circumstances.

The CAA-NL mandated the service information and issued Dutch airworthiness directive NL-2005-002, dated April 14, 2005, to ensure the continued airworthiness of these airplanes in the Netherlands.

Issuance of Related Dutch Airworthiness Directive

The CAA-NL has previously issued Dutch airworthiness directive 2002-115/2, dated October 8, 2004. Among other actions, that airworthiness directive specifies installing a placard and revising the airplane flight manual to include procedures to prohibit the application of brakes during backward movement of the airplane.

FAA's Determination and Requirements of the Proposed AD

These airplane models are manufactured in the Netherlands and are type certificated for operation in the United States under the provisions of section 21.29 of the Federal Aviation Regulations (14 CFR 21.29) and the applicable bilateral airworthiness agreement. Pursuant to this bilateral airworthiness agreement, the CAA-NL has kept the FAA informed of the situation described above. We have examined the CAA-NL's findings, evaluated all pertinent information, and determined that we need to issue an AD for airplanes of this type design that are certificated for operation in the United States.

Therefore, we are proposing this AD, which would require accomplishing the actions specified in the service information described previously, except as discussed under “Differences Among the Proposed AD, Service Bulletin, and Dutch Airworthiness Directive.” This AD would also require installing a placard and revising the airplane flight manual to include procedures to prohibit the application of brakes during backward movement of the airplane.

Differences Among the Proposed AD, Service Bulletin, and Dutch Airworthiness Directive

Operators should note that, although the Dutch airworthiness directive 2002-115/2, dated October 8, 2004, and the Accomplishment Instructions of Fokker Service Bulletin F100-32-106, dated February 18, 2005, provide procedures for submitting a report of all findings to the manufacturer, this proposed AD would not require that action.

Fokker Service Bulletin F100-32-106 specifies to contact the manufacturer for instructions on how to repair certain conditions, but this proposed AD would require repairing those conditions using a method that we or the CAA-NL (or its delegated agent) approve. In light of the type of repair that would be required to address the unsafe condition, and consistent with existing bilateral airworthiness agreements, we have determined that, for this proposed AD, a repair we or the CAA-NL approve would be acceptable for compliance with this proposed AD.

Unlike the procedures described in Fokker Service Bulletin F100-32-106, this proposed AD would not permit further flight if any crack is detected in the MLG main fitting. We have determined that, because of the safety implications and consequences associated with that cracking, any cracked MLG main fitting must be repaired before further flight.

Although Dutch airworthiness directive 2002-115/2, dated October 8, 2004, specifies that the AFM revision be done before further flight, this proposed AD would require that the AFM revision be done within 14 days. Revising the AFM within 14 days represents an appropriate interval of time for affected airplanes to continue to operate without compromising safety.

Clarification of Concurrent Action

Although Fokker Service Bulletin F100-32-106 mentions that Fokker Service Bulletin F100-32-104, Revision 2, dated October 30, 2003, must be done before that service bulletin, this proposed AD would not require accomplishing Fokker Service Bulletin F100-32-104 before Fokker Service Bulletin F100-32-106. The actions specified in Fokker Service Bulletin F100-32-104 are similar to the actions specified in Fokker Service Bulletin F100-32-106. Therefore it is necessary to accomplish only the actions in Fokker Service Bulletin F100-32-106 to address the unsafe condition.

Interim Action

We consider this proposed AD interim action. If final action is later identified, we may consider further rulemaking then.

Costs of Compliance

The following table provides the estimated costs for U.S. operators to comply with this proposed AD.

Estimated Costs
Action | Work hours | Average labor rate per hour | Parts | Cost per airplane | Number of U.S.-registered airplanes | Fleet cost
Inspection | 2 | $65 | $0 | $130 | 11 | $1,430
AFM Revision and Placard Installation | 1 | 65 | 0 | 65 | 11 | 715

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

Fokker Services B.V.: Docket No. FAA-2005-23476; Directorate Identifier 2005-NM-204-AD.

Comments Due Date

(a) The FAA must receive comments on this AD action by February 3, 2006.

Affected ADs

(b) None.

Applicability

(c) This AD applies to Fokker Model F.28 Mark 0070 and 0100 airplanes, certificated in any category; equipped with Messier-Dowty Main Landing Gears (MLGs).

Unsafe Condition

(d) This AD results from a report that an MLG main fitting failed on an airplane that was braking while moving backward. We are issuing this AD to detect and correct cracks in the MLG main fitting, which could result in reduced structural integrity of the MLG main fitting.

Compliance

(e) You are responsible for having the actions required by this AD performed within the compliance times specified, unless the actions have already been done.

Airplane Flight Manual (AFM) Revision and Placard Installation

(f) Within 14 days after the effective date of this AD, amend the Limitations Section of the AFM to prohibit application of brakes during backward movement of the airplane. This may be done by inserting a copy of this AD in the AFM.

Note 1: When a statement to prohibit application of brakes during backward movement of the airplane has been included in the general revisions of the AFM, the general revisions may be inserted into the AFM, and the copy of this AD may be removed from the AFM.

(g) Within 14 days after the effective date of this AD, affix a placard on the pedestal, next to the parking brake handle, having the following wording: “Applicaction of Brakes During Backward Movement Is Prohibited.”

Inspection and Corrective Action

(h) At the applicable time specified in paragraph (h)(1) or (h)(2) of this AD: Do an eddy current inspection of the MLG main fittings and repair before further flight as applicable, in accordance with the Accomplishment Instructions of Messier-Dowty Service Bulletin F100-32-106, dated February 18, 2005, including Appendices A through D, except as provided by paragraphs (i) and (j) of this AD.

(1) For airplanes on which an inspection has not been done in accordance with Messier-Dowty Service Bulletin F100-32-104, Revision 2, dated October 30, 2003: Within 3 months after the effective date of this AD.

(2) For airplanes on which an inspection has been done in accordance with Messier-Dowty Service Bulletin F100-32-104, Revision 2, dated October 30, 2003: Within 2,000 flight cycles since the last inspection done in accordance with the service bulletin or within 3 months after the effective date of this AD, whichever occurs later.

Exceptions to the Service Bulletin

(i) Where Fokker Service Bulletin F100-32-106, dated February 18, 2005, including Appendices A through D, specifies contacting the manufacturer for repair: Before further flight, repair using a method approved by either the Manager, International Branch, ANM-116, Transport Airplane Directorate, FAA; or the Civil Aviation Authority—The Netherlands (CAA-NL) (or its delegated agent).

(j) Although Fokker Service Bulletin F100-32-106, dated February 18, 2005, including Appendices A through D, specifies to submit certain information to the manufacturer, this AD does not include that requirement.

Parts Installation

(k) As of the effective date of this AD, no person may install, on any airplane, a Messier-Dowty MLG, unless it has been inspected/repaired according to paragraph (h) of this AD.

Alternative Methods of Compliance (AMOCs)

(l)(1) The Manager, International Branch, ANM-116, has the authority to approve AMOCs for this AD, if requested in accordance with the procedures found in 14 CFR 39.19.

(2) Before using any AMOC approved in accordance with § 39.19 on any airplane to which the AMOC applies, notify the appropriate principal inspector in the FAA Flight Standards Certificate Holding District Office.

Related Information

(m) Dutch airworthiness directives 2002-115/2, dated October 8, 2004; and NL-2005-002, dated April 14, 2005, also address the subject of this AD.

Issued in Renton, Washington, on December 27, 2005.
Ali Bahrami,
Manager, Transport Airplane Directorate, Aircraft Certification Service.

[FR Doc. E5-8240 Filed 1-3-06; 8:45 am]

BILLING CODE 4910-13-P